NATIONAL SCIENCE FOUNDATION

National Science Board; Sunshine Act Meetings; Notice

The National Science Board's Committee on Programs and Plans (CPP) Task Force on Unsolicited Mid-Scale Research (MS), pursuant to NSF regulations (45 CFR part 614), the National Science Foundation Act, as amended (42 U.S.C. 1862n-5), and the Government in the Sunshine Act (5 U.S.C. 552b), hereby gives notice in regard to the scheduling of a workshop/meeting for the transaction of National Science Board business and other matters specified, as follows:

DATE AND TIME: June 6, 8 a.m.-5:45 p.m. EDT; June 7, 11 a.m.-12:45 p.m. E.D.T.

SUBJECT MATTER: The Task Force on Unsolicited Mid-Scale Research is holding a workshop with invited stakeholders (researchers, university administrators, NSF management and staff, and representatives from other Federal Agencies) to gather input relevant to the policy objectives of the Task Force as defined by the charge (see here: http://www.nsf.gov/nsb/committees/tskforce_ms_charge.jsp). The provisional agenda is as follows:

Monday, June 6

8—Welcome, Workshop Process, and Participant Introductions.

8:30-10:30—Session I: What do we know about unsolicited mid-scale research at NSF? Summary from data gathering activities.

10:45-1:45—Session II: What are the main obstacles for unsolicited mid-scale research at NSF?

12:30—Continuation of Session II over Lunch.

**Lunch is provided for invited guests only. However, NSF staff and members of the public are welcome to attend the luncheon discussion.**

1:45-3:30—Session III: What scientific progress can be achieved through unsolicited and topically broad solicited mid-scale research opportunities?

3:45-5:30—Session IV: Potential solutions for overcoming the obstacles: Setting the stage for the Tuesday breakout sessions.

5:30-5:45—Wrap-Up and Adjourn for the Day.

Tuesday, June 7

11-12:30—Group Discussion of Breakout Sessions.

12:30—Wrap-Up & Next Steps for the Task Force.

12:45—Adjourn.

STATUS: Open.

LOCATION: This meeting will be held in the National Science Board room (1235) at the National Science Foundation, 4201Wilson Blvd., Arlington, VA 22230. All visitors must contact the Board Office [call 703-292-7000 or send an e-mail message to nationalsciencebrd@nsf.gov] at least 24 hours prior to the meeting. Please provide name and organizational affiliation. All visitors must report to the NSF visitor desk located in the lobby at the 9th and N. Stuart Streets entrance on the day of the meeting to receive a visitor's badge.

UPDATES AND POINT OF CONTACT: Please refer to the National Science Board Web site http://www.nsf.gov/nsb for additional information and schedule updates (time, place, subject matter or status of meeting) may be found at http://www.nsf.gov/nsb/notices/. Point of contact for this meeting: Dr. Matthew B. Wilson, National Science Board Office, 4201Wilson Blvd., Arlington, VA 22230. Telephone: (703) 292-7000.

Ann Ferrante,
Writer/Editor.

[FR Doc. 2011-13157 Filed 5-24-11; 11:15 am]

BILLING CODE 7555-01-P